NUCLEAR REGULATORY COMMISSION

[NRC-2008-0472]

Office of New Reactors; Notice of Availability of the Final Interim Staff Guidance COL/ESP-ISG-04 on the Definition of Construction and on Limited Work Authorizations

AGENCY: Nuclear Regulatory Commission (NRC).

ACTION: Notice of availability.

SUMMARY: The NRC is issuing its Final Interim Staff Guidance (ISG) COL/ESP-ISG-004 (ML090060897). This ISG provides guidance regarding the definition of construction and the delineation of preconstruction activities and those activities requiring prior approval of the U.S. Nuclear Regulatory Commission (NRC or the Commission). In addition, this ISG provides guidance regarding the information to be submitted by any applicant for a limited work authorization (LWA).

The NRC staff issues ISGs to facilitate timely implementation of the current staff guidance and to facilitate activities associated with review of applications for early site permits and combined licenses for the Office of New Reactors. The NRC staff will also incorporate COL/ESP-ISG-004 into the next revisions of the Regulatory Guide 1.206, “Combined License Applications for Nuclear Power Plants,” and related guidance documents.

ADDRESSES: The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resource@nrc.gov.

FOR FURTHER INFORMATION CONTACT: Ms. Nanette V. Gilles, Division of New Reactor Licensing, Office of the New Reactors, U.S. Nuclear Regulatory Commission, Washington, DC 20555-0001; telephone 301-415-1180 or e-mail at Nanette.Gilles@nrc.gov.

SUPPLEMENTARY INFORMATION: The NRC posts its issued staff guidance on the NRC external Web page (http://www.nrc.gov/reading-rm/doc-collections/isg/).

Dated at Rockville, Maryland, this 9th day of February 2009.
For the Nuclear Regulatory Commission.
Patrick M. Madden,
Deputy Director, Division of New Reactor Licensing, Office of New Reactors.

[FR Doc. E9-3397 Filed 2-13-09; 8:45 am]

BILLING CODE 7590-01-P